INTERNATIONAL TRADE COMMISSION

[Investigations Nos. AA-1921-143, 731-TA-341, 731-TA-343-345, 731-TA-391-397, and 731-TA-399 (Review)]

Certain Bearings From China, France, Germany, Hungary, Italy, Japan, Romania, Singapore, Sweden, and the United Kingdom

Determinations

On the basis of the record ¹ developed in the subject five-year reviews, the United States International Trade Commission determines, ² pursuant to section 751(c) of the Tariff Act of 1930 (19 U.S.C. § 1675(c)) (the Act), that revocation of the antidumping duty orders on the following types of bearings from China, France, Germany, Italy, Japan, Singapore, and the United Kingdom would be likely to lead to continuation or recurrence of material injury to an industry in the United States within a reasonably foreseeable time.

Product | Country | Investigation No.
Tapered roller bearings | China ³ | 731-TA-344
Ball bearings | France | 731-TA-392
Ball bearings | Germany ³ | 731-TA-391
Ball bearings | Italy ³ | 731-TA-393
Ball bearings | Japan ³ | 731-TA-394
Ball bearings | Singapore ⁴ | 731-TA-396
Ball bearings | United Kingdom ³ | 731-TA-399
Spherical plain bearings | France ⁴ | 731-TA-392

The Commission also determines that revocation of the antidumping finding and antidumping duty orders on the following types of bearings from France, Germany, Hungary, Italy, Japan, Romania, Sweden, and the United Kingdom would not be likely to lead to continuation or recurrence of material injury to an industry in the United States within a reasonably foreseeable time.

Product | Country | Investigation No.
Tapered roller bearings | Hungary | 731-TA-341
Tapered roller bearings | Japan ⁵ | AA-1921-143
Tapered roller bearings | Japan ⁵ | 731-TA-343
Tapered roller bearings | Romania ⁶ | 731-TA-345
Ball bearings | Romania ⁶ | 731-TA-395
Ball bearings | Sweden ⁷ | 731-TA-397
Cylindrical roller bearings | France ⁶ | 731-TA-392
Cylindrical roller bearings | Germany ⁶ | 731-TA-391
Cylindrical roller bearings | Italy ⁶ | 731-TA-393
Cylindrical roller bearings | Japan ⁶ | 731-TA-394
Cylindrical roller bearings | Sweden | 731-TA-397
Cylindrical roller bearings | United Kingdom ⁵ | 731-TA-399
Spherical plain bearings | Germany ⁶ | 731-TA-391
Spherical plain bearings | Japan ⁶ | 731-TA-394

Background

The Commission instituted these reviews on April 1, 1999 (64 FR 15783) and determined on July 2, 1999 that it would conduct full reviews (64 FR 38471, July 16, 1999). Notice of the scheduling of the Commission's reviews and of a public hearing to be held in connection therewith was given by posting copies of the notice in the Office of the Secretary, U.S. International Trade Commission, Washington, DC, and by publishing the notice in the Federal Register on August 27, 1999 (64 FR 46949). The hearing was held in Washington, DC, on March 21, 2000, and all persons who requested the opportunity were permitted to appear in person or by counsel.

¹ The record is defined in sec. 207.2(f) of the Commission's Rules of Practice and Procedure (19 CFR § 207.2(f)).

² Vice Chairman Deanna Tanner Okun not participating.

³ Commissioner Thelma J. Askey dissenting.

⁴ Commissioners Jennifer A. Hillman and Thelma J. Askey dissenting.

⁵ Commissioner Marcia E. Miller dissenting.

⁶ Commissioners Lynn M. Bragg and Marcia E. Miller dissenting.

⁷ Commissioner Lynn M. Bragg dissenting.

The Commission transmitted its determinations in these reviews to the Secretary of Commerce on June 26, 2000. The views of the Commission are contained in USITC Publication 3309 (June 2000), entitled Certain Bearings from China, France, Germany, Hungary, Italy, Japan, Romania, Singapore, Sweden, and the United Kingdom: Investigations Nos. AA1921-143, 731-TA-341, 731-TA-343-345, 731-TA-391-397, and 731-TA-399 (Review).

Issued: June 22, 2000.
By order of the Commission.
Donna R. Koehnke,
Secretary.

[FR Doc. 00-16343 Filed 6-27-00; 8:45 am]

BILLING CODE 7020-02-P